DEPARTMENT OF HEALTH AND HUMAN SERVICES

Centers for Disease Control and Prevention

[60Day-10-0017]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Application for Training (OMB No. 0920-0017 exp. 3/31/2010)—Revision—Office of Workforce and Career Development (OWCD), Centers for Disease Control and Prevention (CDC).

Background and Brief Description

OWCD requests an additional three years to continue CDC's and the Agency for Toxic Substances and Disease Registry's (ATSDR's) use of the training application forms described below.

CDC offers public health training activities to professionals worldwide. Employees of hospitals, universities, medical centers, laboratories, State and Federal agencies, and State and local health departments apply for training to learn up-to-date public health practices. CDC's training activities include laboratory training, classroom study, online training, and distance learning.

CDC uses training application forms to collect information necessary to manage and conduct training pertinent to the agency's mission. This information allows CDC to send confirmation of registration to participants, provide certificates of attendance or continuing education credits as proof of participants' attendance, and generate management reports to identify training needs, design courses, select location for courses, and evaluate programs.

CDC is accredited by six different continuing education (CE) organizations to award CE credit: (1) The International Association for Continuing Education and Training (IACET) to provide Continuing Education Units (CEUs), (2) the Accreditation Council for Continuing Medical Education (ACCME) to provide Continuing Medical Education credits (CME), (3) the American Nurses Credentialing Center (ANCC) to provide Continuing Nurse Education credits (CNE), (4) the National Commission for Health Education Credentialing (NCHEC) to award CHES credit, (5) the Accreditation Council for Pharmacy Education (ACPE) to provide continuing pharmacy credit, and (6) the American Association of Veterinary State Boards to award Registry of Approved Continuing Education (RACE) credit. The accrediting organizations require a method of tracking participants who complete an educational activity, and demographic data allows CDC to do so. Also, several of the organizations require a permanent record that includes the participant's name, address, and phone number, to facilitate retrieval of historical information about when a participant completed a course or several courses during a time period. This information provides the basis for a transcript or for determining whether a person is enrolled in more than one course. CDC uses the e-mail address to verify the participant's electronic request for transcripts, verify course certificates, and send confirmation a participant is registered for a course.

CDC uses the information on the training application forms request to (1) grant public health professionals the CE credits they need to maintain professional licenses and certifications, (2) create a transcript or summary of training at the participant's request, (3) generate management reports, and (4) maintain training statistics. Management reports help CDC identify training needs, design courses, select locations for courses, evaluate programs, and conduct impact analysis.

Tracking course attendance and meeting accrediting organizations' standards for reporting, require uniform standardized training application forms. The standardized data these forms request for laboratory training, classroom study, online training, and distance learning are not requested elsewhere. In other words, these forms do not duplicate requests for information from participants. Data are collected only once per course or once per new registration.

The annual burden table has been updated to reflect an increase in distance learning. There is no cost to respondents other than their time.

Estimated Annualized Burden Hours
Forms | Respondent type | No. of respondents | No. of responses per respondent | Average burden per response (in hours) | Total burden hours
Application for Training | Laboratorians, Doctors, Nurses | 74,000 | 1 | 5/60 | 6167
Total |  |  |  |  | 6167

Dated: October 22, 2009.
Maryam I. Daneshvar,
Acting Reports Clearance Officer, Centers for Disease Control and Prevention.

[FR Doc. E9-25910 Filed 10-27-09; 8:45 am]

BILLING CODE 4163-18-P